ENVIRONMENTAL PROTECTION AGENCY

40 CFR Part 745

[EPA-HQ-OPPT-2005-0049; FRL-8836-1]

RIN 2070-AJ57

Lead; Clearance and Clearance Testing Requirements for the Renovation, Repair, and Painting Program; Reopening of Comment Period

AGENCY: Environmental Protection Agency (EPA).

ACTION: Proposed rule; reopening of comment period.

SUMMARY: EPA issued a proposed rule in the Federal Register of May 6, 2010, concerning several revisions to the 2008 Lead Renovation, Repair, and Painting Program (RRP) rule. This document reopens the comment period for an additional 30 days.

DATES: Comments, identified by docket identification (ID) number EPA-HQ-OPPT-2005-0049, must be received on or before August 6, 2010.

ADDRESSES: Follow the detailed instructions as provided under ADDRESSES in the Federal Register document of May 6, 2010.

FOR FURTHER INFORMATION CONTACT: For technical information contact: Cindy Wheeler, National Program Chemicals Division, Office of Pollution Prevention and Toxics, Environmental Protection Agency, 1200 Pennsylvania Ave., NW., Washington, DC 20460-0001; telephone number: (202) 564-0484; e-mail address: wheeler.cindy@epa.gov.

For general information contact: The TSCA-Hotline, ABVI-Goodwill, 422 South Clinton Ave., Rochester, NY 14620; telephone number: (202) 554-1404; e-mail address: TSCA-Hotline@epa.gov.

SUPPLEMENTARY INFORMATION: This document reopens the public comment period established in the Federal Register of May 6, 2010 (75 FR 25038) (FRL-8823-5). In that document, EPA proposed several revisions to the 2008 Lead Renovation, Repair, and Painting Program (RRP) rule. The proposal included additional requirements designed to ensure that lead-based paint hazards generated by renovation work are adequately cleaned after renovation work is finished and before the work areas are re-occupied. EPA is hereby reopening the comment period for 30 days.

To submit comments, or access the docket, please follow the detailed instructions as provided under ADDRESSES in the May 6, 2010 Federal Register document. If you have questions, consult the technical person listed under FOR FURTHER INFORMATION CONTACT.

List of Subjects in 40 CFR Part 745

Environmental protection, Child-occupied facility, Housing renovation, Lead, Lead-based paint, Renovation, Reporting and recordkeeping requirements.

Dated: July 2, 2010.
Stephen A. Owens,
Assistant Administrator, Office of Chemical Safety and Pollution Prevention.

[FR Doc. 2010-16657 Filed 7-6-10; 8:45 am]

BILLING CODE 6560-50-S